FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011961-016.

Title: The Maritime Credit Agreement.

Parties: Alianca Navegacao e Logistica Ltda. & Cia.; A.P. Moller-Maersk A/S trading under the name of Maersk Line; China Shipping Container Lines Co., Ltd.; Companhia Libra de Navegacao; Compania Libra de Navegacion Uruguay S.A.; Compania Sud Americana de Vapores, S.A.; COSCO Container Lines Company Limited; Dole Ocean Cargo Express; Hamburg-Süd; Hanjin Shipping Co., Ltd.; Independent Container Line Ltd.; Kawasaki Kisen Kaisha, Ltd.; Nippon Yusen Kaisha; Norasia Container Lines Limited; United Arab Shipping Company (S.A.G.); Wallenius Wilhelmsen Logistics AS; Zim Integrated Shipping Services, Ltd.

Filing Party: Wayne R. Rohde, Esq.; Cozen O'Connor; 1627 I Street NW., Suite 1100; Washington, DC 20006.

Synopsis: The amendment removes CMA CGM S.A. as a party to the Agreement.

Agreement No.: 012210-001.

Title: Siem Car Carrier Pacific AS/Eukor Car Carriers Inc. Space Charter Agreement.

Parties: Siem Car Carrier Pacific AS and Eukor Car Carriers Inc.

Filing Party: Ashley W. Craig, Esq. and Elizabeth K. Lowe, Esq.; Venable LLP; 575 Seventh Street NW., Washington, DC 20004.

Synopsis: The amendment expands the geographic scope and updates the name and address of one of the parties.

Agreement No.: 012287.

Title: Siem Car Carrier Pacific AS/Mitsui O.S.K Lines Ltd. Space Charter Agreement.

Parties: Siem Car Carrier Pacific AS and Mitsui O.S.K Lines Ltd.

Filing Party: Ashley W. Craig, Esq. and Elizabeth K. Lowe, Esq.; Venable LLP; 575 Seventh Street NW., Washington, DC 20004.

Synopsis: The agreement authorizes the parties to charter space in the trade between the U.S. East and West Coasts, on the one hand, and China Japan, South Korea, and Mexico, on the one hand.

Agreement No.: 201224.

Title: Marine Terminal Lease and Operating Agreement between Canaveral Port Authority and GT USA LLC.

Parties: Canaveral Port Authority and GT USA LLC.

Filing Party: Paul Heylman, Partner; Saul Ewing LLP; 1919 Pennsylvania Avenue NW., Suite 550; Washington, DC 20006.

Synopsis: The agreement authorizes GT USA to lease space from Canaveral Port Authority.

By Order of the Federal Maritime Commission.
Dated: July 18, 2014.
Karen V. Gregory,
Secretary.

[FR Doc. 2014-17309 Filed 7-22-14; 8:45 am]

BILLING CODE 6730-01-P